DEPARTMENT OF TRANSPORTATION

National Highway Traffic Safety Administration

[Docket No. NHTSA 2002-11420, Notice 2]

DaimlerChrysler Corporation, Inc., Grant of Application for Decision of Inconsequential Noncompliance

DaimlerChrysler Corporation, Inc., (DaimlerChrysler) has determined that approximately 28,265 of its model year 2002 RS vehicles (Dodge and Chrysler mini-vans) do not meet the labeling requirements of paragraph S5.3 of Federal Motor Vehicle Safety Standard (FMVSS) No. 120 “Tire Selection and Rims for Motor Vehicles Other than Passenger Cars.” Pursuant to 49 U.S.C. 30118(d) and 30120(h), DaimlerChrysler has petitioned for a determination that this noncompliance is inconsequential to motor vehicle safety and has filed an appropriate report pursuant to 49 CFR section 573, “Defect and Noncompliance Reports.”

Notice of receipt of the application was published, with a 30-day comment period, on February 6, 2002, in the Federal Register (67 FR 5640). NHTSA received no comments.

DaimlerChrysler determined that the rim size was inadvertently omitted from the tire size designation included on the certification label affixed to 28,265 of its model year 2002 RS vehicles. The recommended tire size designation for these vehicles is P215/65R16. Due to an error in the printing process, the rim size designation number, specifically the number 16, was inadvertently omitted from the certification label. As a result, the recommended tire size designation on the vehicle's certification label reads as “P215/65R,” rather than “P215/65R16.”

DaimlerChrysler believes that the noncompliance is inconsequential to motor vehicle safety for several reasons. First, the noncompliant 2002 RS vehicles were constructed with P215/65R16 tires. DaimlerChrysler believes that most vehicle owners, dealers, and tire service technicians would refer to the vehicles' existing tires (specifically P215/65 R16 tires) to determine the appropriate size for a replacement tire rather than to the certification label. Second, the certification label lists the complete designated rim size, including the rim diameter, appropriate for the P215/65 R16 tires.

The agency believes the true measure of inconsequentiality with respect to the noncompliance with FMVSS No. 120, paragraph S5.3, is whether the tire rim size information is indicated to the consumer on the certification label. Normally, both the tire size and rim type designations that appear on the vehicle certification label indicate the recommended rim size. In the case of this noncompliance, the rim size is missing only from the tire size designation. Therefore, the consumer can still determine the recommended rim size from the rim type designation on the certification label.

In consideration of the foregoing, NHTSA has decided that the applicant has met its burden of persuasion that the noncompliance described is inconsequential to motor vehicle safety. Accordingly, DaimlerChrysler's application is hereby granted, and the applicant is exempted from the obligation of providing notification of, and a remedy for, the noncompliance.

(49 U.S.C. 30118, 30120; delegations of authority at 49 CFR 1.50 and 501.8).
Issued on: July 2, 2002.
Stephen R. Kratzke,
Associate Administrator for Safety Performance Standards.

[FR Doc. 02-17009 Filed 7-5-02; 8:45 am]

BILLING CODE 4910-59-P